DEPARTMENT OF ENERGY

Federal Energy Regulatory Commission

[Docket No. RP03-326-000]

Iroquois Gas Transmission System, L.P.; Notice of Proposed Changes in FERC Gas Tariff

April 3, 2003.

Take notice that on March 31, 2003, Iroquois Gas Transmission System, L.P. (Iroquois) tendered for filing as part of its FERC Gas Tariff, Volume No. 1, the following tariff sheets proposed to become effective May 15, 2003:

First Revised Sheet No. 3

Sixth Revised Sheet No. 27

Fourth Revised Sheet No. 34

Second Revised Sheet No. 54

Fifth Revised Sheet No. 55

Seventh Revised Sheet No. 57

Sixth Revised Sheet No. 57A

Second Revised Sheet No. 70

First Revised Sheet No. 71

First Revised Sheet No. 72

Second Revised Sheet No. 141

First Revised Sheet No. 148

Second Revised Sheet No. 149

Second Revised Sheet No. 150

Fourth Revised Sheet No. 153

First Revised Sheet No. 155

First Revised Sheet No. 158

Third Revised Sheet No. 159

Third Revised Sheet No. 160

Fourth Revised Sheet No. 164

Second Revised Sheet No. 166

Third Revised Sheet No. 171

First Revised Sheet No. 176A

Fifth Revised Sheet No. 181

Fourth Revised Sheet No. 182

Fifth Revised Sheet No. 183

Sixth Revised Sheet No. 184

Sixth Revised Sheet No. 185

Fifth Revised Sheet No. 186

Second Revised Sheet No. 190

Second Revised Sheet No. 192

Iroquois asserts that the purpose of this filing is to correct and update minor inconsistencies in the tariff including, various grammatical errors, removal of obsolete language associated with the Pro Forma contracts, update changes to technical terms to reflect new industry technologies, updates to the reference of industry standards boards, time extensions for contract acceptance for ITS and PALS contracts, an updated system map and other non substantive syntax and format revisions.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-8782 Filed 4-9-03; 8:45 am]

BILLING CODE 6717-01-P